DEPARTMENT OF COMMERCE

National Oceanic and Atmospheric Administration

[I.D. 061406B]

Magnuson-Stevens Act Provisions; General Provisions for Domestic Fisheries; Application for Exempted Fishing Permit

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator) has made a preliminary determination that the subject Exempted Fishing Permit (EFP) application from the Massachusetts Division of Marine Fisheries (MADMF) for an exemption from the gear requirements of the Eastern U.S./Canada Area, for the purpose of testing a cod-avoiding haddock trawl, contains all of the required information and warrants further consideration. The Assistant Regional Administrator has also made a preliminary determination that the activities authorized under the EFP would be consistent with the goals and objectives of the Northeast (NE) Multispecies Fishery Management Plan (FMP). However, further review and consultation may be necessary before a final determination is made to issue the EFP. Therefore, NMFS announces that the Assistant Regional Administrator proposes to issue an EFP that would allow vessels to conduct fishing operations that are otherwise restricted by the regulations governing the fisheries of the Northeastern United States.

Regulations under the Magnuson-Stevens Fishery Conservation and Management Act require publication of this notification to provide interested parties the opportunity to comment on applications for proposed EFPs.

DATES: Comments must be received on or before July 6, 2006.

ADDRESSES: Comments on this notice may be submitted by e-mail. The mailbox address for providing e-mail comments is DA6_153@noaa.gov. Include in the subject line of the e-mail comment the following document identifier: “Comments on MADMF haddock trawl (DA6-153).” Written comments should be sent to Patricia A. Kurkul, Regional Administrator, NMFS, Northeast Regional Office, 1 Blackburn Drive, Gloucester, MA 01930. Mark the outside of the envelope “Comments on MADMF haddock trawl (DA6-153).” Comments may also be sent via facsimile (fax) to (978) 281-9135.

FOR FURTHER INFORMATION CONTACT: Moira Kelly, Fishery Management Specialist, phone: 978-281-9218, fax: 978-281-9135.

SUPPLEMENTARY INFORMATION: An application for an EFP was submitted by MADMF, on May 8, 2006. The EFP would exempt one federally permitted commercial fishing vessel from the following requirement of the FMP: Gear requirements of vessels fishing in the Eastern U.S./Canada Area, as specified at § 648.85(a)(3)(iii)(A).

MADMF has requested an exemption from the gear requirements of the Eastern U.S./Canada Area (i.e., an exemption from the requirement to fish with either a haddock separator trawl or a flounder net) in order to test the effectiveness of a sweepless raised footrope trawl, designed to minimize the catch of Atlantic cod (Gadus morhua) while maximizing the catch of haddock (Melanogrammus aeglefinus). This project is funded under the MADMF/SMAST/MRI Program. The project proposes that a twin trawl with one experimental net and one standard trawl net would be fished under A days-at-sea (DAS) in the Eastern U.S./Canada Area, outside of Closed Area II, by one vessel. The experimental portion of the twin trawl, the five-point trawl, is a sweepless (no ground gear) raised footrope trawl, which was designed based on differences in behavior of haddock and cod in relation to towed gears. Similar to the haddock separator trawl, this experimental net proposes to reduce cod mortality; however, it avoids some of the complexities associated with separator trawls, since the cod would not pass through meshes, or encounter grids or escape vents. Although this study would focus on reducing cod-haddock interactions, this net could also reduce the bycatch of flatfish species such as winter flounder, witch flounder, and American plaice. MADMF staff would be aboard the vessel at all times during testing.

The experimental design calls for 200 hours of towing time from June 2006 through December 2006. Two trawl nets, with similar footrope lengths, would be towed simultaneously from the same vessel. Both the experimental and the control net would conform to or exceed the minimum regulation standards with regard to mesh sizes and shapes throughout the body, extension, and codend. The experimental portion of the twin trawl would be a modified three-bridle, four-panel box trawl, modeled after the sweepless raised footrope trawl, which is a semi-pelagic net that fishes about 1-2 m off the bottom. This design is expected to allow cod to pass under the net, while retaining the haddock that swim upward into the net. The control net would be a standard, non-separator trawl net, with legal mesh size. The two-warp twin trawl uses one set of doors, with a weight/sled in the middle bridle. This design allows the nets to fish independently of each other, while trying to ensure identical fishing conditions for both the control and the experimental catches. Underwater video would be used to show cod escapement and haddock capture of the experimental net.

The researchers expect an average level of interaction with regulated groundfish. The researchers have concluded that the twin trawl would be less efficient than two standard (non-separator, non-twin) trawls, and have estimated the potential catch rates for the project based on these calculations. The researchers estimate the following removal rates:

Atlantic cod | 5.7 mt
Haddock | 23 mt
Pollock | 0.6 mt
Yellowtail Flounder | 2.6 mt
Winter Flounder | 13.1 mt

Vessels would be subject to all applicable trip limits and would be prohibited from fishing in the Eastern U.S./Canada Area, should the area close due to the attainment of any of the U.S./Canada total allowable catches (TAC) of cod, haddock, or yellowtail flounder. All of the catch caught under this experiment would be applied to any and all applicable TAC limitations. Legal catch would be sold and the proceeds would be retained and recycled into the project by MADMF.

The applicant may make requests to NMFS for minor modifications and extensions to the EFP throughout the year. EFP modifications and extensions may be granted by NMFS without further notice if they are deemed essential to facilitate completion of the proposed experiment and result in only a minimal change in the scope or impact of the initially approved EFP request. In accordance with NOAA Administrative Order 216-6, a Categorical Exclusion, or other appropriate NEPA document, would be completed prior to the issuance of the EFP. Further review and consultation may be necessary before a final determination is made to issue the EFP. After publication of this document in the Federal Register, the EFP, if approved, may become effective following a 15-day public comment period.

Authority: 16 U.S.C. 1801 et seq.

Dated: June 15, 2006.
James P. Burgess,
Acting Director, Office of Sustainable Fisheries, National Marine Fisheries Service.

[FR Doc. E6-9702 Filed 6-20-06; 8:45 am]

BILLING CODE 3510-22-S